DEPARTMENT OF ENERGY

Federal Energy Regulatory Commission

[Docket No. ER01-1328-001, et al.]

American Electric Power Service Corporation, et al.; Electric Rate and Corporate Regulation Filings

December 13, 2001.

Take notice that the following filings have been made with the Commission:

1. American Electric Power Service Corporation

[Docket No. ER01-1328-001]

Take notice that on December 6, 2001, American Electric Power Service Corporation (AEPSC), on behalf of AEP operating companies, submitted with the Federal Energy Regulatory Commission (Commission) a non-redacted, confidential copy and a redacted, non-confidential copy of a long-term power purchase agreement with Public Utility District No. 1 of Snohomish County.

Comment date: December 27, 2001, in accordance with Standard Paragraph E at the end of this notice.

2. Electric Generation LLC

[Docket No. ER02-456-000]

Take notice that on November 30, 2001, Electric Generation LLC (Applicant) submitted for filing with the Federal Energy Regulatory Commission (Commission), pursuant to section 205 of the Federal Power Act, and part 35 of the Commission's regulations, an application for acceptance of a power sales agreement and interim code of conduct and grant of various waivers. The application is being submitted in connection with the reorganization of Pacific Gas and Electric Company.

A copy of the application was served upon the California Public Utilities Commission.

Comment date: January 30, 2002, in accordance with Standard Paragraph E at the end of this notice.

3. American Transmission Company LLC

[Docket No. ER02-483-000]

Take notice that on December 5, 2001, American Transmission Company LLC (ATCLLC) tendered for filing an executed Distribution-Transmission Interconnection Agreement between ATCLLC and Badger Power Marketing Authority. ATCLLC requests an effective date of June 25, 2001.

Comment date: December 26, 2001, in accordance with Standard Paragraph E at the end of this notice.

4. Midwest Independent Transmission System Operator, Inc.

[Docket No. ER02-484-000]

Take notice that on December 3, 2001, the Midwest Independent Transmission System Operator, Inc. (Midwest ISO) and the Midwest ISO Transmission Owners jointly submitted for filing revisions to the Midwest ISO Open Access Transmission Tariff (OATT) to implement a Regional Through and Out Rate surcharge (RTOR Adder) and revisions to the Midwest ISO Agreement to implement the revenue distribution for the RTOR Adder revenues and revenues from the Super-Regional Rate Adjustment (SRA). The Midwest ISO and the Midwest ISO Transmission Owners propose that the RTOR Adder and RTOR Adder revenue distribution become effective on February 1, 2002, the beginning of the billing month at least 60 days after the filing. The Midwest ISO and Midwest ISO Transmission Owners propose that the SRA revenue distribution take effect on the date the SRA charges take effect.

The Midwest ISO seeks waiver of the Commission's regulations, 18 CFR 385.2010 (2001), with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment date: December 26, 2001, in accordance with Standard Paragraph E at the end of this notice.

5. Midwest Independent Transmission System Operator, Inc.

[Docket No. ER02-485-000]

Take notice that on December 3, 2001, the Midwest Independent Transmission System Operator, Inc. (Midwest ISO) and the participating Midwest ISO Transmission Owners jointly submitted for filing revisions to the Midwest ISO Open Access Transmission Tariff (OATT) requesting a higher rate of return on common equity and amending Attachment N (Recovery of Costs Associated with New Facilities) to implement specific return on equity and accelerated depreciation incentives. The Midwest ISO and the participating Midwest ISO Transmission Owners propose that the filing become effective on February 1, 2001, 60 days from the date of filing.

The Midwest ISO seeks waiver of the Commission's regulations, 18 CFR 385.2010 (2001), with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter. The Midwest ISO will provide hard copies to any interested parties upon request.

Comment date: December 26, 2001, in accordance with Standard Paragraph E at the end of this notice.

6. New England Power Company

[Docket No. ER02-486-000]

Take notice that on December 4, 2001, New England Power Company (NEP) tendered for filing with the Federal Energy Regulatory Commission (Commission) Second Revised Service Agreement No. 17 for Network Integration Service under NEP's Open Access Transmission Tariff, FERC Electric Tariff, Second Revised Volume No. 9 between NEP and Rowley Municipal Light Plant (Service Agreement). This Service Agreement is a fully executed version of the First Revised Service Agreement No. 17 that was filed unexecuted on August 8, 2001 in Docket No. ER01-28702-000. No other changes have been made to the Service Agreement and the terms remain the same as filed on August 8, 2001.

NEP states that this filing has been served upon Rowley Municipal Light Plant and the Department of Telecommunications and Energy of the Commonwealth of Massachusetts.

Comment date: December 26, 2001, in accordance with Standard Paragraph E at the end of this notice.

7. Arizona Public Service Company

[Docket No. ER02-487-000]

Take notice that on December 5, 2001, Arizona Public Service Company (APS) tendered for filing a revised Network Agreement with Pinnacle West Capital Corporation Marketing and Trading ‘(Pinnacle) under APS’ Open Access Transmission Tariff.

A copy of this filing has been served on Pinnacle and the Arizona Corporation Commission.

Comment date: December 26, 2001, in accordance with Standard Paragraph E at the end of this notice.

8. Midwest Independent Transmission System

[Docket No. ER02-488-000]

Take notice that on December 5, 2001, the Midwest Independent Transmission System Operator, Inc. (Midwest ISO) tendered for filing with the Federal Energy Regulatory Commission (Commission) Operating Protocols for Existing Generators (Operating Protocols), which establish the obligations of the Midwest ISO and of owners or operators of existing generators (Generators). The Midwest ISO submits that the Operating protocols are necessary for the reliable operation of the facilities under the control of the Midwest ISO and that the Operating Protocols describe the direction that the Midwest ISO may provide Generators.

Midwest ISO also seeks waiver of the Commission's regulations (18 CFR 385.2010) with respect to service on all parties on the official service list in this proceeding. The Midwest ISO has electronically served a copy of this filing, with attachments upon all Midwest ISO Members, Member representatives of Transmission Owners and Non-Transmission Owners, the Midwest ISO Advisory Committee participants, Policy Subcommittee participants, we well as all state commissions with the region. In addition, the filing has been electronically posted on the Midwest ISO's website at www.midwestiso.org under the heading “Filings to FERC” for other interested parties in this matter. The Midwest ISO will provide paper copies to any interested parties upon requests.

Comment date: December 26, 2001, in accordance with Standard Paragraph E at the end of this notice.

9. Midwest Independent Transmission System Operator, Inc.

[Docket No. ER02-489-000]

Take notice that on December 5, 2001, the Midwest Independent Transmission System Operator, Inc. (the Midwest ISO) tendered for filing with the Federal Energy Regulatory Commission (Commission) revised pages to its Open Access Transmission Tariff (OATT), FERC Electric Tariff, Original Volume No. 1, which implement a cost recovery mechanism for review and preparation of alternative credit support documentation.

The Midwest ISO also seeks waiver of the Commission's regulations, 18 CFR 385.2010 (2000) with respect to service on all parties on the official service list in this proceeding. The Midwest ISO has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Website at www.midwestiso.org under the heading “FERC Filings” for other interested parties in this matter. The Midwest ISO will provide hard copies to any interested parties upon request.

Comment date: December 26, 2001, in accordance with Standard Paragraph E at the end of this notice.

10. Arizona Public Service Company

[Docket No. ER02-490-000]

Take notice that on December 6, 2001, Arizona Public Service Company (APS) tendered for filing a revised Service Agreement to provide Firm Point-to-Point Transmission Service to Ak Chin Electric Utility Authority (AkChin) under APS' Open Access Transmission Tariff.

A copy of this filing has been served on Ak Chin and the Arizona Corporation Commission.

Comment date: December 27, 2001, in accordance with Standard Paragraph E at the end of this notice.

11. Florida Power Corporation

[Docket No. ER02-492-000]

Take notice that on December 7, 2001, Florida Power Corporation (FPC) tendered for filing Service Agreements for Short-Term Firm and Non-Firm Point-to-Point Transmission Service with Calpine Energy Services, L.P. Service to this Eligible Customer will be in accordance with the terms and conditions of the Open Access Transmission Tariff filed on behalf of FPC.

FPC is requesting an effective date of August 1, 2001 for the Service Agreements.

A copy of the filing was served upon the Florida Public Service Commission.

Comment date: December 28, 2001, in accordance with Standard Paragraph E at the end of this notice.

12. Arizona Public Service Company

[Docket No. ER02-493-000]

Take notice that on December 7, 2001, Arizona Public Service Company tendered for filing a Service Agreement under the Western Systems Power Pool Agreement for service to the Department of Energy, Bonneville Power Administration.

A copy of this filing has been served on Department of Energy, Bonneville Power Administration and the Arizona Corporation Commission.

Comment date: December 28, 2001, in accordance with Standard Paragraph E at the end of this notice.

13. Arizona Public Service Company

[Docket No. ER02-494-000]

Take notice that on December 7, 2001, Arizona Public Service Company (APS) tendered for filing an Interconnection and Operating Agreement with Pinnacle West Energy under APS' Open Access Transmission Tariff.

A copy of this filing has been served on Pinnacle West Energy and the Arizona Corporation Commission.

Comment date: December 28, 2001, in accordance with Standard Paragraph E at the end of this notice.

14. Alliant Energy Corporate Services Inc.

[Docket No. ER02-495-000]

Take notice that on December 7, 2001, Alliant Energy Corporate Services Inc. (ALTM) tendered for filing a signed Service Agreement under ALTM's Market Based Wholesale Power Sales Tariff (MR-1) between itself and The City of Springfield, Illinois, City Water, Light and Power.

ALTM respectfully requests an effective date of December 6, 2001.

Comment date: December 28, 2001, in accordance with Standard Paragraph E at the end of this notice.

15. Arizona Public Service Company

[Docket No. ER02-499-000]

Take notice that on December 6, 2001, Arizona Public Service Company (APS) effective January 31, 2002, Service Agreement No. 198 under FERC Electric Tariff, Tenth Revised Volume No. 2, effective date October 9, 2001 and filed with the Federal Energy Regulatory Commission (Commission) by Arizona Public Service Company is to be canceled.

Notice of the proposed cancellation has been served upon Ak Chin Electric Utility Authority and the Arizona Corporation Commission.

Comment date: December 27, 2001, in accordance with Standard Paragraph E at the end of this notice.

16. Deseret Generation & Transmission Co-operative

[Docket No. ER02-500-000]

Take notice that on December 6, 2001, Deseret Generation & Transmission Co-operative tendered for filing with the Federal Energy Regulatory Commission (Commission) a Wholesale Power Agreement For Large Industrial Loads (Implementing Deseret Rate Schedule ML-COG1) between Deseret Generation & Transmission Co-operative and Moon Lake Electric Association, Inc. The proposed change would result in a rate decrease and is being made by agreement of the parties and pursuant to the provisions of First Revised Service Agreement No. 5 under FERC Electric Tariff, Original Volume 1, which is already on file with the Commission.

Copies of this filing have been served upon Deseret's member cooperatives.

Comment date: December 27, 2001, in accordance with Standard Paragraph E at the end of this notice.

17. Great Northern Paper, Inc.

[Docket No. ER02-501-000]

On December 6, 2001, Great Northern Paper, Inc. located at filed with the Federal Energy Regulatory Commission (Commission) an application for market-based rate authorization to sell energy, capacity and specified ancillary services, waivers and exemptions and a request for an effective date of January 15, 2002 for its market-based rate authorization.

Great Norther Paper, Inc. is a Delaware corporation that owns and operates two thermo electric plants located at or near Millinocket, Maine, with a total nameplate capacity of approximately 150 megawatts, and is seeking market-based rate authorization, waivers and exemptions, and a request for an effective date of January 15, 2002 for its market-based rate authorization in order to sell the output of the facilities to wholesale purchasers.

Comment date: December 27, 2001, in accordance with Standard Paragraph E at the end of this notice.

18. Michigan Electric Transmission Company

[Docket No. ER02-502-000]

Take notice that on December 7, 2001, Michigan Electric Transmission Company (METC) tendered for filing a revised Service Agreement with Wolverine Power Supply Cooperative, Inc. (Customer) for Network Integration Transmission Service (designated First Revised Service Agreement No. 8 under METC FERC Electric Tariff No. 1). The Revised Service Agreement reflects the terms of Amendment No. 1 to the original Service Agreement which deals with the addition of direct assignment facilities and the resulting adjustment in the Facilities Usage Fee from $733 to $888 per month.

METC requests a November 1, 1998 effective date.

Copies of the filing were served upon the Customer and the Michigan Public Service Commission.

Comment date: December 28, 2001, in accordance with Standard Paragraph E at the end of this notice.

19. Nine Mile Point Nuclear Station, LLC

[Docket No. ER02-503-000]

Take notice that on December 7, 2001, Nine Mile Point Nuclear Station, LLC (Nine Mile LLC) submitted for filing five revised service agreements under Nine Mile LLC's market-based rate tariff (Service Agreement Nos. 1 through 5 under FERC Electric Tariff, Original Volume No. 1) reflecting the assignment of such service agreements by Constellation Nuclear, LLC to its subsidiary, Nine Mile LLC.

Comment date: December 28, 2001, in accordance with Standard Paragraph E at the end of this notice.

20. The Dayton Power and Light Company

[Docket No. ER02-504-000]

Take notice that on December 7, 2001, The Dayton Power and Light Company (Dayton) submitted service agreements establishing The Dayton Power & Light Company (Energy Services) as customers under the terms of Dayton's Open Access Transmission Tariff.

Copies of this filing were served upon The Dayton Power & Light Company (Energy Services) and the Public Utilities Commission of Ohio.

Comment date: December 28, 2001, in accordance with Standard Paragraph E at the end of this notice.

21. Bluegrass Generation Company, L.L.C.

[Docket No. ER02-506-000]

Take notice that on December 7, 2001, Bluegrass Generation Company, L.L.C. (Bluegrass) tendered for filing with the Federal Energy Regulatory Commission (Commission) pursuant to rule 205, 18 CFR 385.205, a petition for waivers and blanket approvals under various regulations of the Commission and for an order accepting its FERC Electric Tariff No. 1.

Bluegrass intends to sell electric power at wholesale rates, terms, and conditions to be mutually agreed to with the purchasing party. The Bluegrass tariff provides for the sale of electric energy and capacity at agreed prices.

Bluegrass seeks an effective date of December 8, 2001 for its tariff.

Comment date: December 28, 2001, in accordance with Standard Paragraph E at the end of this notice.

22. Cambridge Electric Light Company, Central Maine Power Company, The Connecticut Light and Power Company, New England Power Company, Public Service Company of New Hampshire, and Western Massachusetts Electric Company

[Docket No. ER02-505-000]

Take notice that on December 7, 2001, Cambridge Electric Light Company, Central Maine Power Company, The Connecticut Light and Power Company, New England Power Company, Public Service Company of New Hampshire, and Western Massachusetts Electric Company (the Sponsors) submitted notice of cancellations, effective February 28, 2002, for power contracts between the Sponsors and Boylston Municipal Light Department, Braintree Electric Light Department, City of Chicopee Municipal Lighting Plant, Danvers Electric Division, Georgetown Municipal Light Department, Hingham Municipal Light Plant, City of Holyoke Gas & Electric Department, Hudson Light and Power Department, Hull Municipal Lighting Plant, Ipswich Municipal Light Department, Marblehead Municipal Light Department, Middleborough Gas and Electric Department, Middleton Municipal Light Department, North Attleborough Electric Department, Paxton Municipal Light Department, Peabody Municipal Light Plant, Shrewsbury's Electric Light Plant, Sterling Municipal Light Department, Taunton Municipal Lighting Plant, Wakefield Municipal Light Department, West Boylston Municipal Lighting Plant, Westfield Gas & Electric Light Department, and the Connecticut Municipal Electric Energy Cooperative. The contracts to be canceled are Cambridge Electric Light Company, Rate Schedule FERC No.22; Central Maine Power Company, Rate Schedule FERC No. 46, The Connecticut Light and Power Company, Rate Schedule FERC No. 72, New England Power Company, Rate Schedule FERC No. 237, Public Service Company of New Hampshire, Rate Schedule FERC No. 63, and Montaup Electric Company, Rate Schedule FERC No. 25.

Notices of the proposed cancellations have been served on the appropriate state regulatory agencies and all affected customers.

Comment date: December 28, 2001, in accordance with Standard Paragraph E at the end of this notice.

23. TPS McAdams, LLC

[Docket No. ER02-507-000]

Take notice that on December 7, 2001, TPS McAdams, LLC tendered for filing with the Federal Energy Regulatory Commission (Commission) an application for authorization to sell energy, capacity and ancillary services at market-based rates pursuant to section 205 of the Federal Power Act.

A copy of this filing has been served on the Florida Public Service Commission.

Comment date: December 28, 2001, in accordance with Standard Paragraph E at the end of this notice.

24. Tampa Electric Company

[Docket No. ER02-508-000]

Take notice that on December 7, 2001, Tampa Electric Company (TEC) tendered for filing pursuant to Section 205 of the Federal Power Act an executed Interconnection and Operating Agreement between TEC and CPV Pierce, Ltd. as a service agreement under TEC's open access transmission tariff.

Comment date: December 28, 2001, in accordance with Standard Paragraph E at the end of this notice.

25. Entergy Services, Inc.

[Docket No. ER02-509-000]

Take notice that on December 7, 2001, Entergy Services, Inc., on behalf of Entergy Gulf States, Inc., tendered for filing a unilaterally executed Interconnection and Operating Agreement with Shell Chemical LP, acting as agent for Shell Oil Company (Shell), and a Generator Imbalance Agreement with Shell.

Comment date: December 28, 2001, in accordance with Standard Paragraph E at the end of this notice.

26. TPS Dell, LLC

[Docket No. ER02-510-000]

Take notice that on December 7, 2001, TPS Dell, LLC tendered for filing an application for authorization to sell energy, capacity and ancillary services at market-based rates pursuant to section 205 of the Federal Power Act.

A copy of this filing has been served on the Florida Public Service Commission.

Comment date: December 28, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31307 Filed 12-19-01; 8:45 am]

BILLING CODE 6717-01-P